INTERNATIONAL TRADE COMMISSION

[Investigation No. 337-TA-991]

Certain Nanopores and Products Containing Same Commission Determination Not To Review an Initial Determination Terminating the Investigation Based Upon Consent Order Stipulation and Proposed Consent Order; Issuance of Consent Order; Termination of the Investigation

AGENCY: U.S. International Trade Commission.

ACTION: Notice.

SUMMARY: Notice is hereby given that the U.S. International Trade Commission has determined not to review an initial determination (“ID”) (Order No. 13) granting a joint motion to terminate the investigation based upon a consent order stipulation and proposed consent order. The Commission has issued the consent order. The investigation is terminated.

FOR FURTHER INFORMATION CONTACT: Lucy Grace D. Noyola, Office of the General Counsel, U.S. International Trade Commission, 500 E Street SW., Washington, DC 20436, telephone 202-205-3438. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on March 31, 2016, based on a complaint filed by Illumina, Inc. of San Diego, California; University of Washington of Seattle, Washington; and UAB Research Foundation of Birmingham, Alabama (collectively, “Complainants”). 81 FR 18648 (Mar. 31, 2016). The complaint, as supplemented, alleges violations of section 337 of the Tariff Act of 1930, as amended, 19 U.S.C. 1337, in the importation into the United States, the sale for importation, or the sale within the United States after importation of certain nanopores and products containing same by reason of infringement of certain claims of U.S. Patent Nos. 8,673,550 and 9,170,230. Id. The notice of investigation names as a respondents Oxford Nanopore Technologies Ltd. of Oxford, United Kingdom and Oxford Nanopore Technologies, Inc. of Cambridge, Massachusetts (collectively, “Respondents”). Id. The Office of Unfair Import Investigations (“OUII”) also was named as a party to the investigation. Id.

On July 5, 2016, Complainants and Respondents filed a joint motion to terminate the investigation based upon a consent order stipulation and proposed consent order. On July 12, 2016, OUII filed a response, supporting the motion.

On July 26, 2016, the presiding administrative law judge (“ALJ”) issued an ID (Order No. 13) granting the motion. The ALJ found that the consent order stipulation and proposed consent order contain the statements required by 19 CFR 210.21(c). The ALJ also found that termination of the investigation was in the public interest. No petitions for review of the ID were filed.

The Commission has determined not to review the subject ID and has issued the consent order. The investigation is terminated.

The authority for the Commission's determination is contained in section 337 of the Tariff Act of 1930, as amended (19 U.S.C. 1337), and in Part 210 of the Commission's Rules of Practice and Procedure (19 CFR part 210).

By order of the Commission.
Issued: August 18, 2016.
Lisa R. Barton,
Secretary to the Commission.

[FR Doc. 2016-20199 Filed 8-23-16; 8:45 am]

BILLING CODE 7020-02-P